DEPARTMENT OF JUSTICE

Notice of Lodging of Consent Decree Under Comprehensive Environmental Response, Compensation and Liability Act

Under 28 CFR 50.7, notice is hereby given that on October 25, 2004, a proposed Consent Decree in United States v. Esso Standard Oil Co. S.A. Ltd., Civil Action No. 2004/0139, was lodged with the United States District Court for the District of Virgin Islands.

In this action, the United States asserted claims against Esso Standard Oil Co. S.A. Ltd. (Esso) under Section 107(a) of the Comprehensive Environmental Response, Compensation and Liability Act (CERCLA), 42 U.S.C. 9607(a), for recovery of response costs incurred regarding the Tutu Wellfield Superfund Site, in St. Thomas, USVI (Site). The proposed consent decree embodies an agreement with Esso to pay $3 million of response costs. The decree provides Esso with a covenant not to sue under Section 107(a) of CERCLA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Esso Standard Oil Co. S.A. Ltd., D.J. 90-11-3-1510/1.

The Consent Decree may be examined at the Office of the United States Attorney, 1108 King Street, Suite 201, Christensted, St. Croix, VI 00820, and at the Region II Office of the U.S. Environmental Protection Agency, Region II Records Center, 290 Broadway, 17th Floor, New York, NY 10007-1866. During the public comment period, the Consent Decree also may be examined on the following Department of Justice Web site, http://www.usdoj.gov/enrd/open.html. A copy of the Consent Decree Library, P.O. Box 7611, U.S. Department of Justice, Washington, DC 2004-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

Ronald G. Gluck,
Assistant Section Chief, Environmental Enforcement Section, Environment and Natural Resources Division.

[FR Doc. 04-25534 Filed 11-17-04; 8:45 am]

BILLING CODE 4410-15-M